DEPARTMENT OF ENERGY

Federal Energy Regulatory Commission

Combined Notice of Filings #1

Take notice that the Commission received the following electric rate filings:

Docket Numbers: ER10-2302-003.

Applicants: Public Service Company of New Mexico.

Description: Public Service Company of New Mexico submits Notice of Non-Material Change in Status.

Filed Date: 10/18/2011.

Accession Number: 20111018-5072.

Comment Date: 5 p.m. Eastern Time on Tuesday, November 8, 2011.

Docket Numbers: ER11-4307-000.

Applicants: Green Mountain Energy Company.

Description: Supplement to Market Power Analysis of Green Mountain Energy Company.

Filed Date: 10/06/2011.

Accession Number: 20111006-5153.

Comment Date: 5 p.m. Eastern Time on Thursday, October 27, 2011.

Docket Numbers: ER11-4308-000.

Applicants: Reliant Energy Northeast LLC.

Description: Supplement to Market Power Analysis of Reliant Energy Northeast LLC.

Filed Date: 10/06/2011.

Accession Number: 20111006-5152.

Comment Date: 5 p.m. Eastern Time on Thursday, October 27, 2011.

Docket Numbers: ER11-4600-001.

Applicants: Moguai Energy LLC.

Description: Moguai Energy LLC submits tariff filing per 35: Revised MBR 10132011 to be effective 9/22/2011.

Filed Date: 10/18/2011.

Accession Number: 20111018-5018.

Comment Date: 5 p.m. Eastern Time on Tuesday, November 8, 2011.

Docket Numbers: ER12-103-000.

Applicants: Southern California Edison Company.

Description: Southern California Edison Company submits tariff filing per 35.13(a)(2)(iii: LGIA Desert Stateline Project, Desert Stateline, LLC to be effective 10/19/2011.

Filed Date: 10/18/2011.

Accession Number: 20111018-5024.

Comment Date: 5 p.m. Eastern Time on Tuesday, November 8, 2011.

Docket Numbers: ER12-104-000.

Applicants: WFM Intermediary New England, LLC.

Description: WFM Intermediary New England, LLC submits tariff filing per 35.15: Cancellation of Tariff to be effective 10/18/2011.

Filed Date: 10/18/2011.

Accession Number: 20111018-5025.

Comment Date: 5 p.m. Eastern Time on Tuesday, November 8, 2011.

Docket Numbers: ER12-105-000.

Applicants: Southwestern Public Service Company.

Description: Southwestern Public Service Company submits tariff filing per 35.13(a)(2)(iii: 2011-10-18_SPS-RBEC-GSEC-Const Agrmt 649-SPS to be effective 10/7/2011.

Filed Date: 10/18/2011.

Accession Number: 20111018-5035.

Comment Date: 5 p.m. Eastern Time on Tuesday, November 8, 2011.

Docket Numbers: ER12-106-000.

Applicants: Southern California Edison Company.

Description: Southern California Edison Company submits tariff filing per 35.13(a)(2)(iii: LGIA Silver State South Solar Project, LLC-Silver State Solar Power South, LLC to be effective 10/19/2011.

Filed Date: 10/18/2011.

Accession Number: 20111018-5037.

Comment Date: 5 p.m. Eastern Time on Tuesday, November 8, 2011.

Docket Numbers: ER12-107-000.

Applicants: PJM Interconnection, LLC.

Description: PJM Interconnection, LLC submits tariff filing per 35.13(a)(2)(iii: Queue No. W3-108; Original Service Agreement No. 3077 to be effective 9/19/2011.

Filed Date: 10/18/2011.

Accession Number: 20111018-5039.

Comment Date: 5 p.m. Eastern Time on Tuesday, November 8, 2011.

Docket Numbers: ER12-108-000.

Applicants: PJM Interconnection, LLC.

Description: PJM Interconnection, LLC submits tariff filing per 35.13(a)(2)(iii: Queue No. X1-054; Original Service Agreement No. 3078 to be effective 9/19/2011.

Filed Date: 10/18/2011.

Accession Number: 20111018-5040.

Comment Date: 5 p.m. Eastern Time on Tuesday, November 8, 2011.

Docket Numbers: ER12-109-000.

Applicants: Arizona Public Service Company.

Description: Arizona Public Service Company submits tariff filing per 35.13(a)(2)(iii: Multiple Non-conforming service agreements pursuant to the APS OATT to be effective 12/17/2011.

Filed Date: 10/18/2011.

Accession Number: 20111018-5063.

Comment Date: 5 p.m. Eastern Time on Tuesday, November 8, 2011.

Docket Numbers: ER12-110-000.

Applicants: Arizona Public Service Company.

Description: Arizona Public Service Company submits tariff filing per 35.13(a)(2)(iii: Multiple Rate Schedules pursuant to Section 205 of the FPA to be effective 12/17/2011.

Filed Date: 10/18/2011.

Accession Number: 20111018-5066.

Comment Date: 5 p.m. Eastern Time on Tuesday, November 8, 2011.

Docket Numbers: ER12-111-000.

Applicants: NorthWestern Corporation.

Description: NorthWestern Corporation submits tariff filing per 35.13(a)(2)(iii: Service Agreement No. 609—Western Area Power Administration to be effective 10/19/2011.

Filed Date: 10/18/2011.

Accession Number: 20111018-5081.

Comment Date: 5 p.m. Eastern Time on Tuesday, November 8, 2011.

Docket Numbers: ER12-112-000.

Applicants: Entergy Arkansas, Inc.

Description: Entergy Arkansas, Inc. submits tariff filing per 35.13(a)(2)(iii: Entergy/AMEREN/AECI 3-Party Agreement to be effective 12/18/2011.

Filed Date: 10/18/2011.

Accession Number: 20111018-5085.

Comment Date: 5 p.m. Eastern Time on Tuesday, November 8, 2011.

Docket Numbers: ER12-113-000.

Applicants: Midwest Independent Transmission System Operator, Inc.

Description: Midwest Independent Transmission System Operator, Inc. submits tariff filing per 35.13(a)(2)(iii: 10-18-11 GFA 368 Correction to be effective 7/28/2010.

Filed Date: 10/18/2011.

Accession Number: 20111018-5096.

Comment Date: 5 p.m. Eastern Time on Tuesday, November 8, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2011.
Nathaniel J. Davis, Sr.,
Deputy Secretary.

[FR Doc. 2011-27762 Filed 10-26-11; 8:45 am]

BILLING CODE 6717-01-P